DEPARTMENT OF DEFENSE

Office of the Secretary

Defense Innovation Board; Notice of Federal Advisory Committee Meeting

AGENCY: Under Secretary of Defense for Research and Engineering, Department of Defense.

ACTION: Notice of Federal Advisory Committee meeting.

SUMMARY: The Department of Defense (DoD) is publishing this notice to announce that the following Federal Advisory Committee meeting of the Defense Innovation Board will take place.

DATES: Open to the public Wednesday, April 3, 2019, from 3:00 p.m.-4:00 p.m. Eastern Time.

ADDRESSES: The public meeting will be held virtually via live phone conference. Please refer to the Defense Innovation Board's website for the audio conference phone number: http://innovation.defense.gov. (See guidance in the SUPPLEMENTARY INFORMATION section.)

FOR FURTHER INFORMATION CONTACT: Captain Christopher Brunett, (703) 697-4337 (Voice), christopher.w.brunett.mil@mail.mil (Email); OR Janet Boehnlein, (571) 527-9209 (Voice), janet.a.boehnlein.civ@mail.mil (Email). Mailing address is Defense Innovation Board, 3030 Defense Pentagon, Room 5E572, Washington, DC 20301-3030. Website: http://innovation.defense.gov. The most up-to-date changes to the meeting agenda can be found on the website.

SUPPLEMENTARY INFORMATION: Due to circumstances beyond the control of the Department of Defense (DoD) and the Designated Federal Officer, the Defense Innovation Board was unable to provide public notification required by 41 CFR 102-3.150(a) concerning its April 3, 2019 meeting of the Defense Innovation Board. Accordingly, the Advisory Committee Management Officer for the Department of Defense, pursuant to 41 CFR 102-3.150(b) waives the 15-calendar day notification requirement.

This meeting is being held under the provisions of the Federal Advisory Committee Act (FACA) of 1972 (5 U.S.C., Appendix, as amended), the Government in the Sunshine Act of 1976 (5 U.S.C. 552b, as amended), and 41 CFR 102-3.140 and 102-3.150.

Purpose of the Meeting: The mission of the DIB is to examine and provide the Secretary of Defense and the Deputy Secretary of Defense independent advice and recommendations on innovative means to address future challenges in terms of integrated change to organizational structure and processes, business and functional concepts, and technology applications. The DIB focuses on (a) technology and capabilities, (b) practices and operations, and (c) people and culture.

Agenda: During the meeting, the DIB will deliberate and vote on the unclassified portion of the 5G Study. See below for additional information on how to sign up to provide public comments. Oral comments will be accepted at the public meeting if time permits.

Meeting Accessibility: Pursuant to Federal statutes and regulations (the FACA, the Sunshine Act, and 41 CFR 102-3.140 through 102-3.165), the meeting is open to the public via webcast and conference call from 3:00 p.m. to 4:00 p.m. EDT. Members who plan to attend via webcast or phone should register on the DIB website, http://innovation.defense.gov, no later than April 1, 2019.

Special Accommodations: Individuals requiring special accommodations to access the public meeting should contact the Designated Federal Officer (DFO), see FOR FURTHER INFORMATION CONTACT section for contact information, no later than March 25, 2019, so that appropriate arrangements can be made.

Written Statements: Pursuant to section 10(a)(3) of the FACA and 41 CFR 102-3.140, the public or interested organizations may submit written comments to the DIB about its approved agenda pertaining to this meeting or at any time regarding the DIB's mission. Individuals submitting a written statement must submit their statement to the DFO (see For Further Information Contact section for contact information). Written comments that do not pertain to a scheduled meeting may be submitted at any time. However, if individual comments pertain to a specific topic being discussed at the planned meeting, then such comments must be received in writing not later than April 1, 2019. The DFO will compile all written submissions and provide them to DIB members for consideration.

Oral Presentations: Individuals wishing to make an oral statement to the DIB at the public meeting may be permitted to speak for up to two minutes, time permitting, and will need microphone access enabled on the device from which they are participating in the meeting. Anyone wishing to speak to the DIB should submit a request by email at osd.innovation@mail.mil not later than April 1, 2019 for planning. Requests for oral comments should include a copy or summary of planned remarks for archival purposes. Individuals may also be permitted to submit a comment request at the public meeting; however, depending on the number of individuals requesting to speak, the schedule may limit participation. Webcast attendees will be provided instructions with the live stream link if they wish to submit comments during the open meeting. Dial-in attendees must submit written statements prior to the meeting (see “Written Statements” section for instructions).

Dated: March 27, 2019.
Shelly E. Finke,
Alternate OSD Federal Register Liaison Officer, Department of Defense.

[FR Doc. 2019-06273 Filed 3-29-19; 8:45 am]

BILLING CODE 5001-06-P